DEPARTMENT OF TRANSPORTATION

Coast Guard

[USCG-2000-8047]

National Boating Safety Activities: Funding for National Nonprofit Public Service Organizations

AGENCY: Coast Guard, DOT.

ACTION: Notice of availability.

SUMMARY: The Coast Guard seeks applications for grants and cooperative agreements from national, nongovernmental, nonprofit, public service organizations. These grants and cooperative agreements would be used to fund projects on various subjects promoting boating safety on the national level. This notice provides information about the grant and cooperative agreement application process and some of the subjects of particular interest to the Coast Guard.

DATES: Application packages may be obtained on or after October 10, 2000. Proposals for the fiscal year 2001 grant cycle must be received before 4:30 p.m. eastern time, January 12, 2001.

ADDRESSES: Application packages may be obtained by calling the Coast Guard Infoline at 800-368-5647. Submit proposals to: Commandant (G-OPB-1), U.S. Coast Guard Headquarters, 2100 Second Street SW., Room 3100, Washington, DC 20593-0001. This notice is available from the Coast Guard Infoline and on the Internet at http://dms.dot.gov or at the Web Site for the Office of Boating Safety at http://www.uscgboating.org.

FOR FURTHER INFORMATION CONTACT: Mr. Albert Marmo or Ms. Vickie Hartberger, Office of Boating Safety, U.S. Coast Guard (G-OPB-1/room 3100), 2100 Second Street, SW., Washington, DC 20593-0001; 202-267-0950 or 202-267-0974.

SUPPLEMENTARY INFORMATION: Title 26, United States Code, section 9504, establishes the Boat Safety Account of the Aquatic Resources Trust Fund. From this trust fund, the majority of funds are allocated to the States, and up to 5% of these funds may be distributed by the Coast Guard for grants and cooperative agreements to national, nonprofit, public service organizations for national boating safety activities. It is anticipated that $2,950,000 will be available for fiscal year 2001. Twenty four awards totaling $2,948,343 were made in fiscal year 2000 ranging from $5,000 to $436,200. Nothing in this announcement should be construed as committing the Coast Guard to dividing available funds among qualified applicants or awarding any specified amount.

It is anticipated that several awards will be made by the Director of Operations Policy, U.S. Coast Guard. Applicants must be national, nongovernmental, nonprofit, public service organizations and must establish that their activities are, in fact, national in scope. An application package may be obtained by writing or calling the point of contact listed in ADDRESSES on or after October 10, 2000. The application package contains all necessary forms, an explanation of how the grant program is administered, and a checklist for submitting a grant application. Specific information on organization eligibility, proposal requirements, award procedures, and financial administration procedures may be obtained by contacting the person listed in FOR FURTHER INFORMATION CONTACT.

Prospective grantees may propose up to a five-year grant with twelve-month (fiscal year) increments. In effect, an award would be made for the first year and thereafter renewal is optional. Each annual increment would not be guaranteed. Under a continuation (multi-year) grant type of award the Coast Guard agrees to support a grant project at a specific level of effort for a specified period of time, with a statement of intention to provide certain additional future support, provided funds become available, the achieved results warrant further support, and are in support of the needs of the government. Award of continuation grants will be made on a strict case by case basis to assist planning certain large scale projects and ensure continuity. Procedures also provide for awarding noncompetitive grants or cooperative agreements on a case by case basis. This authority is judiciously used to fund recurring annual projects or events which can only be carried out by one organization, and projects that present targets of opportunity for timely action on new or emerging program requirements or issues. The following list includes items of specific interest to the Coast Guard, however, potential applicants should not be constrained by the list. We welcome any initiative that supports the organizational objectives of the Recreational Boating Safety Program to save lives, reduce the number of boating accidents, injuries and property damage, and lower associated health care costs. We have a high interest in initiatives that focus on recreational anglers, canoeists, kayakers, and/or personal watercraft operators. Some project areas of continuing and particular interest for grant funding include the following:

1. Develop and Conduct a National Annual Safe Boating Campaign. The Coast Guard seeks a grantee to develop and conduct the year 2002 National Annual Safe Boating Campaign that targets specific boater market segments and recreational boating safety topics. This year-round campaign must support the organizational objectives of the Recreational Boating Safety Program, as well as support the nationwide grassroots activity of the many volunteer groups who coordinate local media events, education programs, and public awareness activities. The major focus of the campaign will be to affect the behavior of all boaters with special emphasis on paddlers, hunters and anglers, and users of personal watercraft. Efforts will also be coordinated, year-round, with other national transportation safety activities and special media events. Point of Contact: Ms. Jo Calkin, 202-267-0994.

2. Develop and Conduct a National Recreational Boating Safety Outreach and Awareness Conference. The Coast Guard seeks a grantee to plan, implement, and conduct a National Recreational Boating Safety Outreach and Awareness Conference that supports the organizational objectives of the Recreational Boating Safety Program. The overall conference focus should have promotional strategies which address the following specific targeted audiences: Paddlers, anglers and hunters, and personal watercraft users. Point of Contact: Ms. Jo Calkin, 202-267-0994.

3. State/Federal/Boating Organizations Cooperative Partnering Efforts. The Coast Guard seeks a grantee to provide programs to encourage greater participation and uniformity in boating safety efforts. Applicants would provide a forum to encourage greater uniformity of boating laws and regulations, reciprocity among jurisdictions, and closer cooperation and assistance in developing, administering, and enforcing Federal and State laws and regulations pertaining to boating safety. Point of Contact: Ms. Sandy Brown, 202-267-6010.

4. Voluntary Standards Development Support. The Coast Guard seeks a grantee to carry out a program to encourage active participation by members of the public and other qualified persons in the development of technically sound voluntary safety standards for boats and associated equipment. Point of Contact: Mr. Peter Eikenberry, 202-267-6984.

5. Develop and Conduct Boating Accident Seminars. The Coast Guard seeks a grantee to develop, provide instructional material, and conduct training courses nationwide for boating accident investigators, including three courses at the U.S. Coast Guard Reserve Training Center in Yorktown, Virginia. Point of Contact: Mr. Rick Gipe, 202-267-0985.

6. National Estimate of Personal Flotation Devices (PFDs) Wear Rate. The Coast Guard seeks a grantee to develop a statistically valid national estimate and evaluation of wear rates of PFDs by recreational boaters. Wear rate should be determined by actual observation of boaters rather than other means such as surveys. Point of Contact: Mr. Peter Eikenberry, 202-267-6894.

7. Risk Analysis. The Coast Guard seeks a grantee to apply risk analysis and risk management techniques to validate a speed versus proposed intervention matrix for the operation of recreational boats. Point of Contact: Mr. Philip Cappel, 202-267-0988.

8. Recreational Boating Safety Needs Assessment. The Coast Guard seeks a grantee to perform a comprehensive assessment of funding needs for State recreational boating safety programs. Point of Contact: Ms. Jeanne Timmons, 202-267-0857.

9. Develop a State-by-State Boater Risk Exposure Study. The Coast Guard seeks a grantee to perform an analysis of national boater survey and accident data to provide a better understanding of the relative risk boaters face as a function of the amount of time actually spent on the water. The study would provide insights regarding State-to-State comparisons of boaters' relative risk, highlighting differences based on boaters' relative exposure time. Point of Contact: Mr. Bruce Schmidt, 202-267-0955.

10. Reference Guide to State Boating Education Laws and Regulations. The Coast Guard seeks a grantee to collect, compile and effectively disseminate State specific boating safety education laws and regulations to the boating community to encourage uniformity and reciprocity across and between States. The project will include a survey of the State authorities to ascertain the common elements contained in State boating education laws and will present these elements in a standardized, easy-to-use format. The data will be published both in printed and electronic formats to facilitate online access. Point of Contact: Mr. Vann Burgess, 202-267-6717.

11. Uniform Implementation of National Boating Education Standards. The Coast Guard seeks a grantee to develop and conduct seminars to train State personnel in the accurate and effective use and interpretation of the National Boating Education Standards to better provide course review and enhance the approval process. Point of Contact: Mr. Vann Burgess, 202-267-6717.

12. Establish Boat Operator Knowledge Exam Quality Criteria. The Coast Guard seeks a grantee to develop nationally recognized and accepted final written boating safety education examination criteria. Criteria elements should address all core elements as presented in the National Boating Education Standards. Identifiable elements should include such items, but not limited to: total number of questions, number of questions per educational segment, types/style of questions to be used, test validity, and educational efficacy. Point of Contact: Mr. Vann Burgess, 202-267-6717.

13. Global Maritime Distress and Safety System (GMDSS) Education. The Coast Guard seeks a grantee to develop a training aid to educate the recreational boating public on GMDSS, including information on GMDSS history, component systems, GMDSS Sea Areas, carriage requirements, potential difficulties non-GMDSS equipped recreational boat may encounter in trying to communicate with SOLAS-class vessels, Digital Selective Calling, and system implementation time frame. Point of Contact: CWO Michael Wedda, 202-267-1263.

14. Boating Safety Problem-Specific Awareness. The Coast Guard seeks a grantee to develop an informational package dealing with several safety issues, including carbon monoxide dangers, propeller injury prevention, off throttle steering properties and others to be specified. The information would be reproducible in pamphlet form as well as in format for inclusion on the Office of Boating Safety Web site. Elements must support the year-round national campaign. Point of Contact: Ms. Diane Schneider, 202-267-1196.

15. Navigation Light Glare Minimization. The Coast Guard seeks a grantee to investigate the aspects of recreational boat navigation light glare, especially with regard to the use of the “all around” white light, and determine what technologies or methodologies, if any, might eliminate or minimize the negative effects of glare on the vision of the operator. Point of Contact: Mr. Randolph J. Doubt, 202-267-6810.

16. Flotation Foam Study. The Coast Guard seeks a grantee to perform testing and analysis of current flotation foams used in recreational vessels to determine degree of water absorption, effects of temperature variations, effects of vibration, and effects of aging. Study shall include both in-situ and as-installed testing. Point of Contact: Mr. Gary Larimer, 202-267-0986.

17. Carbon Monoxide Study. The Coast Guard seeks a grantee to perform testing on current and emerging technologies for detection of carbon monoxide in a marine environment. Grantee shall also perform an analysis of in-use carbon monoxide detection equipment. Point of Contact: Mr. Randolph J. Doubt, 202-267-6810.

18. Carbon Monoxide Build-up Relative to Vessel Configurations Study. The Coast Guard seeks a grantee to investigate levels of carbon monoxide build-up on recreational vessels relative to particular vessel design and equipment configuration. Point of Contact: Mr. Randolph J. Doubt, 202-267-6810.

19. Revise, Reprint and Produce On-line the Guide for Multiple Use Waterways Management. The Coast Guard seeks a grantee to revise and update “A Guide for Multiple Use Waterway Management” produced under a prior Coast Guard grant, providing new management tools and techniques that have been developed or modified since the publication's initial release. In addition to providing the Guide in a printed format to satisfy current and anticipated future demand, this project would also format the Guide for availability and dissemination through the Internet. Point of Contact: CWO Michael Wedda, 202-267-1263.

20. Disseminate Personal Watercraft (PWC) Renter Orientation Checklist. The Coast Guard seeks a grantee to package and disseminate printed copies of a newly developed two-part PWC Renter Orientation Checklist for broad distribution to PWC livery operators and others nationwide. The Checklist would also be made available online via the Internet. Point of Contact: Mr. Vann Burgess, 202-267-6717. Potential grantees should focus on partnership, i.e., exploring other sources, linkages, in-kind contributions, cost sharing, and partnering with other organizations or corporations. You may obtain a more detailed discussion of specific projects of interest to the Coast Guard by contacting the Coast Guard Infoline at 800-368-5647 and requesting a copy of a specific proposal. We also encourage proposals addressing other boating safety concerns.

The Boating Safety Financial Assistance Program is listed in section 20.005 of the Catalog of Federal Domestic Assistance.

Dated: October 3, 2000.
Kenneth T. Venuto,
Rear Admiral, Coast Guard, Director of Operations Policy.

[FR Doc. 00-25753 Filed 10-5-00; 8:45 am]

BILLING CODE 4910-15-U